DEPARTMENT OF COMMERCE

Foreign-Trade Zones Board

[B-62-2022]

Foreign-Trade Zone (FTZ) 163—Ponce, Puerto Rico; Notification of Proposed Production Activity, Global Manufacturing LLC, (Mattresses and Box Springs), Ponce, Puerto Rico

CODEZOL, C.D., grantee of FTZ 163, submitted a notification of proposed production activity to the FTZ Board (the Board) on behalf of Global Manufacturing LLC, located in Ponce, Puerto Rico within FTZ 163. The notification conforming to the requirements of the Board's regulations (15 CFR 400.22) was received on December 8, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include mattresses with inner springs, box springs, and bunkettes—one layer of pre-cut wood with a layer of fabric (duty rate ranges from duty-free to 3%).

The proposed foreign-status materials and components include: knitted fabrics in rolls and pre-cut composed of (98.5% polyester and 1.5% elastane/100% polyester/96% polyester and 4% metallic); woven fabrics in rolls and pre-cut composed of 80 percent polyester and 20 percent polypropylene; polyurethane foam in rolls and pre-cut; memory foam in rolls and precut; 100% polyester non-woven felt pad sheets used to upholster the interior of the mattress; innerspring units (with uncovered and covered inner springs); pre-cut pine wood; steel wire; and, steel mesh (duty rate ranges from duty-free to 14.9%. The request indicates that inner spring units and pre-cut pine wood are subject to antidumping/countervailing duty (AD/CVD) orders if imported from certain countries. The Board's regulations (15 CFR 400.14(e)) require that merchandise subject to AD/CVD orders, or items which would be otherwise subject to suspension of liquidation under AD/CVD procedures if they entered U.S. customs territory, be admitted to the zone in privileged foreign (PF) status (19 CFR 146.41). The request also indicates that certain materials/components are subject to duties under Section 232 of the Trade Expansion Act of 1962 (Section 232) or Section 301 of the Trade Act of 1974 (Section 301), depending on the country of origin. The applicable Section 232 and Section 301 decisions require subject merchandise to be admitted to FTZs in PF status.

Public comment is invited from interested parties. Submissions shall be addressed to the Board's Executive Secretary and sent to: ftz@trade.gov. The closing period for their receipt is January 30, 2023.

A copy of the notification will be available for public inspection in the “Online FTZ Information System” section of the Board's website.

For further information, contact Diane Finver at Diane.Finver@trade.gov.

Dated: December 15, 2022.
Andrew McGilvray,
Executive Secretary.

[FR Doc. 2022-27691 Filed 12-20-22; 8:45 am]

BILLING CODE 3510-DS-P